OFFICE OF THE UNITED STATES TRADE REPRESENTATIVE

Notice of Meeting of the Industry Sector Advisory Committee on Small and Minority Business (ISAC-14)

AGENCY: Office of the United States Trade Representative.

ACTION: Notice of a partially opened meeting.

SUMMARY: The Industry Sector Advisory Committee on Small and Minority Business (ISAC-14) will hold a meeting on December 2, 2002, from 9 a.m. to 3 p.m. The meeting will be opened to the public from 2 p.m. to 3 p.m. The meeting will be closed to the public from 9 a.m. to 2 p.m.

DATES: The meeting is scheduled for December 2, 2002, unless otherwise notified.

ADDRESSES: The meeting will be held at the International Trade Center, Ronald Reagan Building, Training Room C, located at 14th and Constitution Avenue, NW., Washington, DC.

FOR FURTHER INFORMATION CONTACT: Tamara Underwood, DFO at (202) 482-4792, Department of Commerce, 14th Street and Constitution Avenue, SW., Washington, DC 20230 or Christina Sevilla, Director for Intergovernmental Affairs, on (202) 395-6120.

SUPPLEMENTARY INFORMATION: During the opened portion of the meeting the following agenda item will be discussed.

• Report by Department of Commerce's Office of Trade and Economic Analysis on Recently Published SME

Christopher A. Padilla,
Assistant, U.S. Trade Representative for Intergovernmental Affairs and Public Liaison.

[FR Doc. 02-28555 Filed 11-8-02; 8:45 am]

BILLING CODE 3190-01-M